DEPARTMENT OF ENERGY

Federal Energy Regulatory Commission

Combined Notice of Filings #1

Take notice that the Commission received the following electric rate filings:

Docket Numbers: ER11-3829-001.

Applicants: Wisconsin Power and Light Company.

Description: Wisconsin Power and Light Company submits tariff filing per 35.17(b): WPL NSP—LBAAOCA Amendment to be effective 6/20/2011.

Filed Date: 08/04/2011.

Accession Number: 20110804-5018.

Comment Date: 5 p.m. Eastern Time on Thursday, August 25, 2011.

Docket Numbers: ER11-3957-001.

Applicants: Consumers Energy Company.

Description: Consumers Energy Company submits tariff filing per 35.17(b): Facilities Agreement with the Michigan Power Limited Partnership, Rate Schedule to be effective 8/29/2011.

Filed Date: 08/04/2011.

Accession Number: 20110804-5054.

Comment Date: 5 p.m. Eastern Time on Thursday, August 25, 2011.

Docket Numbers: ER11-4219-000.

Applicants: Wolverine Power Supply Cooperative, Inc., Michigan Electric Transmission Company, LLC.

Description: Wolverine Power Supply Cooperative, Inc. submits tariff filing per 35.13(a)(2)(iii: Filing of Amended and Restated Interconnection Agreements to be effective 4/21/2011.

Filed Date: 08/04/2011.

Accession Number: 20110804-5017.

Comment Date: 5 p.m. Eastern Time on Thursday, August 25, 2011.

Docket Numbers: ER11-4220-000.

Applicants: California Independent System Operator Corporation.

Description: California Independent System Operator Corporation submits tariff filing per 35.13(a)(2)(iii: 2011-08-02 CAISO Amendment to Clarify section 37.2.1.1 to be effective 10/3/2011.

Filed Date: 08/04/2011.

Accession Number: 20110804-5052.

Comment Date: 5 p.m. Eastern Time on Thursday, August 25, 2011.

Docket Numbers: ER11-4221-000.

Applicants: California Independent System Operator Corporation.

Description: California Independent System Operator Corporation submits tariff filing per 35: 2011-08-04 CAISO Filing in Compliance with July 5 Order re Order 719 to be effective 8/4/2011.

Filed Date: 08/04/2011.

Accession Number: 20110804-5053.

Comment Date: 5 p.m. Eastern Time on Thursday, August 25, 2011.

Docket Numbers: ER11-4222-000.

Applicants: PJM Interconnection, LLC.

Description: PJM Interconnection, LLC submits tariff filing per 35.13(a)(2)(iii: Queue No. W2-064; Original Service Agreement No. 2976 to be effective 7/11/2011.

Filed Date: 08/04/2011.

Accession Number: 20110804-5058.

Comment Date: 5 p.m. Eastern Time on Thursday, August 25, 2011.

Docket Numbers: ER11-4223-000.

Applicants: PJM Interconnection, LLC.

Description: PJM Interconnection, LLC submits tariff filing per 35.13(a)(2)(iii: Queue No. W2-074; Original Service Agreement No. 2977 to be effective 7/11/2011.

Filed Date: 08/04/2011.

Accession Number: 20110804-5070.

Comment Date: 5 p.m. Eastern Time on Thursday, August 25, 2011.

Docket Numbers: ER11-4224-000.

Applicants: Midwest Independent Transmission System, Inc., ITC Midwest LLC.

Description: Midwest Independent Transmission System Operator, Inc. submits tariff filing per 35.13(a)(2)(iii: Filing of Notice of Succession to Interconnection Agreement to be effective 10/4/2011.

Filed Date: 08/04/2011.

Accession Number: 20110804-5071.

Comment Date: 5 p.m. Eastern Time on Thursday, August 25, 2011.

Docket Numbers: ER11-4225-000.

Applicants: PJM Interconnection, LLC.

Description: PJM Interconnection, LLC submits tariff filing per 35.13(a)(2)(iii: Queue No. W1-082; Original Service Agreement No. 2975 to be effective 7/11/2011.

Filed Date: 08/04/2011.

Accession Number: 20110804-5072.

Comment Date: 5 p.m. Eastern Time on Thursday, August 25, 2011.

Docket Numbers: ER11-4226-000.

Applicants: Southern California Edison Company.

Description: Southern California Edison Company submits tariff filing per 35.13(a)(2)(iii: Letter Agreement for SunPower & Sempra Gen, Whirlwind Projects to be effective 8/3/2011.

Filed Date: 08/04/2011.

Accession Number: 20110804-5073.

Comment Date: 5 p.m. Eastern Time on Thursday, August 25, 2011.

Docket Numbers: ER11-4228-000.

Applicants: PJM Interconnection, LLC.

Description: PJM Interconnection, LLC submits tariff filing per 35.13(a)(2)(iii: Revisions to section 7.3.6 of the OATT Attachment K Appendix and OA Schedule 1 to be effective 8/5/2011.

Filed Date: 08/04/2011.

Accession Number: 20110804-5080.

Comment Date: 5 p.m. Eastern Time on Thursday, August 25, 2011.

Docket Numbers: ER11-4229-000.

Applicants: Midwest Independent Transmission System, Inc., ITC Midwest LLC.

Description: Midwest Independent Transmission System Operator, Inc. submits tariff filing per 35.13(a)(2)(iii: Filing of Notice of Succession of ITC Midwest to be effective 10/4/2011.

Filed Date: 08/04/2011.

Accession Number: 20110804-5081.

Comment Date: 5 p.m. Eastern Time on Thursday, August 25, 2011.

Docket Numbers: ER11-4230-000.

Applicants: Midwest Independent Transmission System, Inc., ITC Midwest LLC.

Description: Midwest Independent Transmission System Operator, Inc. submits tariff filing per 35.13(a)(2)(iii: Notice of Succession to be effective 10/4/2011.

Filed Date: 08/04/2011.

Accession Number: 20110804-5083.

Comment Date: 5 p.m. Eastern Time on Thursday, August 25, 2011.

Docket Numbers: ER11-4231-000.

Applicants: Midwest Independent Transmission System, Inc., ITC Midwest LLC.

Description: Midwest Independent Transmission System Operator, Inc. submits tariff filing per 35.13(a)(2)(iii: Filing of Notice of Succession to be effective 10/4/2011.

Filed Date: 08/04/2011.

Accession Number: 20110804-5084.

Comment Date: 5 p.m. Eastern Time on Thursday, August 25, 2011.

Docket Numbers: ER11-4232-000.

Applicants: Midwest Independent Transmission System, Inc., ITC Midwest LLC.

Description: Midwest Independent Transmission System Operator, Inc. submits tariff filing per 35.13(a)(2)(iii: Filing of Notice of Succession to be effective 10/4/2011.

Filed Date: 08/04/2011.

Accession Number: 20110804-5098.

Comment Date: 5 p.m. Eastern Time on Thursday, August 25, 2011.

Docket Numbers: ER11-4233-000.

Applicants: Appalachian Power Company.

Description: Appalachian Power Company submits tariff filing per 35.13(a)(2)(iii: 20110804 Attachment K and L Revision to be effective 9/6/2011.

Filed Date: 08/04/2011.

Accession Number: 20110804-5100.

Comment Date: 5 p.m. Eastern Time on Thursday, August 25, 2011.

Docket Numbers: ER11-4234-000.

Applicants: Avista Corporation.

Description: Avista Corporation submits tariff filing per 35.12: Avista Corp Rate Schedule FERC No. 527 to be effective 10/1/2011.

Filed Date: 08/05/2011.

Accession Number: 20110805-5001.

Comment Date: 5 p.m. Eastern Time on Friday, August 26, 2011.

Docket Numbers: ER11-4235-000.

Applicants: PacifiCorp.

Description: Notices of Cancellation of Pacificorp.

Filed Date: 08/05/2011.

Accession Number: 20110805-5019.

Comment Date: 5 p.m. Eastern Time on Friday, August 26, 2011.

Docket Numbers: ER11-4236-000.

Applicants: Duke Energy Commercial Asset Management, Inc.

Description: Notices of Cancellation of Duke Energy Commercial Asset Management, Inc.

Filed Date: 08/05/2011.

Accession Number: 20110805-5020.

Comment Date: 5 p.m. Eastern Time on Friday, August 26, 2011.

Take notice that the Commission received the following electric securities filings:

Docket Numbers: ES11-38-000.

Applicants: Upper Peninsula Power Company.

Description: Upper Peninsula Power Company submits supplement to their 6/15/11 application for renewed authorization to issue long-term debate.

Filed Date: 08/02/2011.

Accession Number: 20110805-0017.

Comment Date: 5 p.m. Eastern Time on Friday, August 12, 2011.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 5, 2011.
Kimberly D. Bose,
Secretary.

[FR Doc. 2011-20426 Filed 8-10-11; 8:45 am]

BILLING CODE 6717-01-P